DEPARTMENT OF THE INTERIOR

Fish and Wildlife Service

Endangered and Threatened Species Permit Application

AGENCY: Fish and Wildlife Service, Interior.

ACTION: Notice of receipt of application.

The following applicants have applied for scientific research permits to conduct certain activities with endangered species pursuant to sections 10(a)(1)(A) and 10(c) of the Endangered Species Act of 1973, as amended (16 U.S.C. 1531, et seq.).

[Permit Number TE054503]

Applicant: Brian Scholtens, Mount Pleasant, South Carolina.

The applicant requests a permit to take (survey and hold) Hungerford's crawling water beetle (Brychius hungerfordi) in Michigan. The scientific research is aimed at enhancement of survival of the species in the wild.

[Permit Number TE054504]

Applicant: Melissa M. Pierson, Grayslake, Illinois.

The applicant requests a permit to take (capture and release) Karner blue butterfly (Lycaeides melissa samuelis) in Illinois. The scientific research is aimed at enhancement of survival of the species in the wild.

[Permit Number TE055406]

Applicant: U.S. Army Corps of Engineers, St. Louis District, CEMVS-PM-EA.

The applicant requests a permit to take (hold, tag, and study) pallid sturgeon (Scaphirhynchus albus) in Missouri. The scientific research is aimed at enhancement of survival of the species in the wild.

Written data or comments should be submitted to the Regional Director, U.S. Fish and Wildlife Service, Ecological Services Operations, 1 Federal Drive, Fort Snelling, Minnesota 55111-4056, and must be received within 30 days of the date of this publication.

Documents and other information submitted with this application are available for review by any party who requests a copy from the following office within 30 days of the date of publication of this notice: U.S. Fish and Wildlife Service, Ecological Services Operations, 1 Federal Drive, Fort Snelling, Minnesota 55111-4056, peter_fasbender@fws.gov, telephone (612) 713-5343, or Fax (612) 713-5292.

Dated: April 11, 2002.
Robert J. Krska,
Acting Assistant Regional Director, Ecological Services, Region 3, Fort Snelling, Minnesota.

[FR Doc. 02-10243 Filed 4-25-02; 8:45 am]

BILLING CODE 4310-55-P